DEPARTMENT OF THE INTERIOR

National Park Service

[NPS-WASO-NRSS-EQD-13710; PPWONRADN1, PPMRSNR1N.NS0000]

Proposed Information Collection; Comment Request: NPS Study of Value of Natural Sounds: A Pilot Study

AGENCY: National Park Service, Interior.

ACTION: Notice; request for comments.

SUMMARY: We (National Park Service) will ask the Office of Management and Budget (OMB) to approve the information collection request (ICR) described below. This collection will consist of a pretest of a survey of the general public concerning the value of natural quiet in national parks. To comply with the Paperwork Reduction Act of 1995 and as a part of our continuing efforts to reduce paperwork and respondent burden, we invite the general public and other federal agencies to comment on this ICR. A Federal agency may not conduct or sponsor and a person is not required to respond to a collection of information unless it displays a currently valid OMB control number.

DATES: To ensure that your comments on this ICR are considered, OMB must receive them on or before September 9, 2013.

ADDRESSES: Please submit written comments on this information collection directly to the Office of Management and Budget (OMB) Office of Information and Regulatory Affairs, Attention: Desk Officer for the Department of the Interior via email to OIRA_Submission@omb.eop.gov or fax at 202-395-5806; and identify your submission as “1024-SOUND”. Please also send a copy of your comments to Phadrea Ponds, Information Collection Coordinator, National Park Service, 1201 Oakridge Drive, Fort Collins, CO 80525 (mail); or phadrea_ponds@nps.gov (email). Please reference Information Collection “1024-SOUND” in the subject line of your comments.

FOR FURTHER INFORMATION CONTACT: Catherine Taylor, Volpe National Transportation Systems Center, Economics and Industry Analysis Division (RVT-21), 55 Broadway, Cambridge, MA 02142 (mail); via email at Catherine.Taylor@dot.gov (email); or at 617-494-2380 (phone). You may also access this ICR at www.reginfo.gov.

SUPPLEMENTARY INFORMATION:

I. Abstract

Currently, the NPS has no information about the value that visitors hold for preserving natural sound conditions in national parks. Nor does NPS have any information of how human-caused sound conditions affect the likelihood of visitation to national parks. The National Park Service is requesting permission to conduct focus groups that will be used to pilot test the central questions that will be used in a subsequent survey to estimate the general public's value for natural sounds in national parks. Once the pilot sessions are completed, a final survey will be developed and submitted to OMB for review and consideration for approval.

II. Data

OMB Control Number: None. This is a new collection.

Title: NPS Study of Value of Natural Sounds: A Pilot Study.

Type of Request: New.

Affected Public: General public.

Respondent's Obligation: Voluntary.

Frequency of Collection: One-time.

Estimated Annual Number of Respondents: 514.

Estimated Total Annual Burden Hours: 183 hours.

Estimated Reporting and Recordkeeping “Non-Hour Cost” Burden: None.

III. Request for Comments

On February 4, 2011, we published a Federal Register notice (76 FR 6495) announcing that we would submit this ICR to OMB for approval. Public comments were solicited for 60 days ending April 5, 2011. We did not receive any comments that addressed the information collection requirements.

We again invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 5, 2013.
Madonna L. Baucum,
Information Collection Clearance Officer, National Park Service.

[FR Doc. 2013-19280 Filed 8-8-13; 8:45 am]

BILLING CODE 4310-EH-P